DEPARTMENT OF ENERGY

Federal Energy Regulatory Commission

[Docket No. CP00-404-000]

Texas Eastern Transmission Corporation; Notice of Availability of the Environmental Assessment for the Proposed Columbia Liberty Project

February 27, 2001.

The staff of the Federal Energy Regulatory Commission (FERC or Commission) has prepared an environmental assessment (EA) on the natural gas pipeline facilities proposed by Texas Eastern Transmission Corporation (Texas Eastern) in the above referenced docket.

The EA was prepared to satisfy the requirements of the National Environmental Policy Act. The staff concludes that approval of the proposed project, with appropriate mitigating measures, would not constitute a major Federal action significantly affecting the quality of the human environment.

The EA assesses the environmental effects of the construction and operation of the proposed facilities in Chester and Delaware Counties, Pennsylvania. These facilities would consist of investigating and replacing or repairing 37 anomaly sites on Texas Eastern's existing 20-inch-diameter Line 1-A, constructing 3,086 feet of new pipeline, constructing a meter station, modifying piping at Chester Junction, and adding 4,000 horsepower of electric driven compression at Texas Eastern's existing Eagle Compressor Station.

The facilities would supply 84,000 decatherms per day of natural gas to the nonjurisdictional Columbia Liberty Electric Generating Plant being developed by PG&E Energy Trading—Power, L.P. and Liberty Electric Power, LLC in Delaware County, Pennsylvania.

The EA has been placed in the public files of the FERC. A limited number of copies of the EA are available for distribution and public inspection at: Federal Energy Regulatory Commission, Public Reference and Files Maintenance Branch, 888 First Street, NE., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

1. Send original and two copies of your comments to: David P. Boergers, Secretary, Federal Energy Regulatory Commission, 888 First St., NE., Room 1A, Washington, DC 20426;

2. Label one copy of the comments for the attention of the Gas 1, PJ-11-1;

3. Reference Docket No. CP00-404-000; and

4. Mail your comments so that they will be received in Washington, DC on or before March 29, 2001.

Comments may also be filed electronically via the Internet in lieu of paper. See 18 CFR 385.2001(a)(1)(iii) and the instructions on the Commission's website at http://www.ferc.fed.us/efi/doorbell.htm under the link to the User's Guide. Before you can file comments you will need to create an account which can be created by clicking on “Login to File” and then “New user Account”.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision.

Affected landowners and parties with environmental concerns may be granted intervenor status upon showing good cause by stating that they have a clear and direct interest in this proceeding which would not be adequately represented by any other parties. You do not need intervenor status to have your comments considered.

Additional information about the proposed project is available from the Commission's Office of External Affairs at (202) 208-0004 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-5178 Filed 3-2-01; 8:45 am]

BILLING CODE 6717-01-M